DEPARTMENT OF HEALTH AND HUMAN SERVICES

Agency for Healthcare Research and Quality

Request for Information—Learning Healthcare Systems

AGENCY: Agency for Healthcare Research and Quality (AHRQ), HHS.

ACTION: Request for Information.

SUMMARY: The Agency for Healthcare Research and Quality (AHRQ) is seeking information from healthcare delivery organizations about current challenges they are facing and solutions they are implementing as they seek to become learning healthcare systems. AHRQ is also seeking to identify opportunities such organizations see for the Agency to assist them in this work—for example by summarizing best practices, creating training materials, developing standardized metrics, and/or convening learning networks.

DATES: Submission deadline on or before February 28, 2017.

ADDRESSES: Email submissions: LearningHealthSystem@AHRQ.hhs.gov.

Mailing Address: Learning Healthcare Systems, Office of the Director, Agency for Healthcare Research and Quality, 5600 Fishers Lane, Rockville, MD 20857.

FOR FURTHER INFORMATION CONTACT: Brigid Russell, Office of the Director, LearningHealthSystem@AHRQ.hhs.gov, 301-427-1886.

SUPPLEMENTARY INFORMATION: The mission of the Agency for Healthcare Research and Quality (AHRQ) is to produce evidence to make health care safer, higher quality, more accessible, equitable, and affordable, and to work within the U.S. Department of Health and Human Services and with other public and private partners to make sure that the evidence is understood and used. The Agency strives to meet this mission by investing in research and generating needed evidence that supports disseminating tested practices, creating materials to teach and train health care systems and professionals to catalyze improvements in care, and developing measures and data used to track and improve performance. To learn more about the Agency, visit AHRQ.gov.

The National Academy of Medicine (formerly the Institute of Medicine or IOM) has described a learning healthcare system as an organization that “is designed to generate and apply the best evidence for the collaborative healthcare choices of each patient and provider; to drive the process of discovery as a natural outgrowth of patient care; and to ensure innovation, quality, safety, and value in health care.” ¹

¹ Institute of Medicine/National Academy of Medicine. The Learning Healthcare System: Workshop Summary. Olsen L, Aisner D, McGinnis JM, eds. Washington, DC: National Academies Press; 2007.

Several trends within healthcare delivery are increasing the potential for the development of learning healthcare systems including the consolidation of ambulatory, in-patient, and post-acute care settings of care into integrated delivery systems, the evolution of health information systems, and increased attention to population health management. AHRQ is interested in understanding how healthcare professionals and organizations in the United States are currently working to become learning healthcare systems and in identifying high-leverage opportunities for the Agency to support this transformation.

Healthcare delivery organizations, both small and large, can function as learning healthcare systems, systematically gathering and creating evidence and applying the most promising evidence-based practices to improve their care delivery. AHRQ wants to better understand the process by which organizations and professionals select evidence to implement and the strategies used to move evidence into everyday practice. AHRQ is interested in hearing from the full range of healthcare delivery organizations including individual ambulatory practices, community health center networks, hospitals, individual components (such as departments) within larger organizations, networks of practices, accountable care organizations, and integrated delivery systems.

Specific questions of interest to the Agency include, but are not limited to:

• How are learning healthcare systems utilizing their own data to inform clinical and organizational improvements in healthcare delivery, design, and efficiency?

• Are learning healthcare systems using their own data to inform strategies to address population health and healthcare disparities?

• What methodological and/or data quality issues have been encountered by the health care delivery organizations in generating evidence utilizing their own data?

• How do learning healthcare systems ensure that evidence either generated from their own data and/or adopted from external research is applied in a consistent manner throughout the organization, including across different specialties, levels of care, and clinical sites?

• What metrics are learning healthcare systems utilizing to:

• Understand the degree to which they are functioning as a system?

• Monitor progress on their rate of moving clinical evidence into practice?

• Evaluate the consistency of application of evidence across the organization?

• How do these metrics relate to health care delivery organization goal setting, individual employee performance review and internal compensation linked to performance?

• How are learning healthcare systems involving patients and families in their efforts?

• What evidence, tools, training, methods, data, or measures could AHRQ develop or provide that would have a significant impact on the ability of health care delivery organizations to utilize their own data, use externally produced data and evidence, and meet their own quality and safety goals?

AHRQ will use the information it receives to assist in developing future initiatives. These initiatives may include but are not limited to developing research grant opportunities to advance this field, investing in the creation of tools and training materials for health professionals and healthcare delivery organizations, the development of quality improvement measures, and/or convening learning collaboratives focused on accelerating the development of learning healthcare system capabilities within healthcare delivery organizations.

Healthcare professionals and organizations are encouraged to respond to this RFI by submitting materials to the email address listed above by February 28, 2017. While AHRQ is interested in all of the specific questions listed above, respondents are welcome to include answers to as many or few as they choose as well as addressing additional areas of interest not listed. AHRQ encourages respondents to include a description of their healthcare delivery organization at the beginning of their response to provide context for the information they provide. Respondents are also encouraged to share supporting materials, such as charters for quality and safety improvement committees, data use agreements for learning collaboratives, population health metrics and reports, or guidelines for the use of evidence-based practices, that they believe will help the Agency better understand how they are working to become learning healthcare systems.

This RFI is for planning purposes only and should not be construed as a policy, solicitation for applications, or as an obligation on the part of the Government to provide support for any ideas identified in response to it. AHRQ will use the information submitted in response to this RFI at its discretion and will not provide comments to any responder's submission. However, responses to the RFI may be reflected in future solicitation(s). The information provided will be analyzed and may appear in reports. Respondents will not be identified in any published reports. Respondents are advised that the Government is under no obligation to acknowledge receipt of the information received or provide feedback to respondents with respect to any information submitted. No proprietary, classified, confidential, or sensitive information should be included in your response. The Government reserves the right to use any non-proprietary technical information in any resultant solicitation(s).

Andrew B. Bindman,
Director.

[FR Doc. 2017-00548 Filed 1-11-17; 8:45 am]

BILLING CODE P